DEPARTMENT OF THE INTERIOR

National Park Service

[NPS-WASO-NRNHL-DTS#-28601; PPWOCRADI0, PCU00RP14.R50000]

National Register of Historic Places; Notification of Pending Nominations and Related Actions

AGENCY: National Park Service, Interior.

ACTION: Notice.

SUMMARY: The National Park Service is soliciting comments on the significance of properties nominated before July 27, 2019, for listing or related actions in the National Register of Historic Places.

DATES: Comments should be submitted by August 26, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before July 27, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

Pierson Place, (Residential Subdivisions and Architecture in Central Phoenix, 1870-1963, MPS), Roughly bounded by Central & 7th Aves., Camelback Rd. & Grand Canal, Phoenix, MP100004344

Pima County

Bauder, Jean and Paul, House (Boundary Increase), (Single Family Residential Architecture of Josias Joesler and John and Helen Murphey MPS), 4775 N Camino Antonio, Tucson vicinity, BC100004343

FLORIDA

Duval County

Arpen, Henry C., House, 3318 O'Connor Rd., Jacksonville, SG100004347

Marion County

Silver Springs, 5656 E Silver Springs Blvd., Silver Springs, SG100004353

Pinellas County

Huggins-Stengel Field, 1320 5th St. N, St. Petersburg, SG100004348

Polk County

Craney Spec Houses Historic District, Drexel Ave. NE between 15th St. and 16th St., Winter Haven, SG100004349

Shell Hammock Landing, 3800 Shell Hammock, Lake Wales, SG100004350

Putnam County

Hotel James, 300 St. Johns Ave., Palatka, SG100004351

Sarasota County

Warm Mineral Springs Building Complex, 12220 San Servando Ave., North Port, SG100004352

INDIANA

Allen County

Kensington Boulevard Historic District, Roughly bounded by East State Blvd., North Anthony Blvd., Niagara Dr., and Pemberton Dr., Fort Wayne, SG100004368

Clinton County

TPA Park, 1 Adrian Marks Dr., Frankfort, SG100004364

Delaware County

Muncie Trade School, 1491 West Kilgore Ave., Muncie, SG100004363

La Porte County

Long Beach School, 2501 Oriole Trail, Long Beach, SG100004366

Marion County

Beth-El Zedeck Temple, 3359 Ruckle St., Indianapolis, SG100004362

Marshall County

Sults-Quivey-Hartman Polygonal Barn and Farm, 15605 S Olive Trail, Plymouth, SG100004367

Spencer County

Rockport Historic District, Roughly bounded by First St., Seminary St., a line from north to south following Greenwood St., Lincoln Ave. and Eighth St., and William and Pearl Sts., Rockport, SG100004359

Steuben County

Lime Lake—Lake Gage Channel and Bridge, North Gage Dr., Angola, SG100004361

Washington County

Campbell-Gill House, 8178 S IN 335, New Pekin, SG100004365

MASSACHUSETTS

Suffolk County

Ascension-Caproni Historic District, Roughly bounded by Washington, Newcomb, Thorndike & Reed Sts., Boston, SG100004335

Worcester County

Duprey Building, 16 Norwich St., Worcester, SG100004336

Oakham Center Historic District, Roughly bounded by Coldbrook & Barre Rds., Maple St. & Deacon Allen Dr., Oakham, SG100004337

NEW YORK

Montgomery County

Palatine Bridge Historic District, Carman Ct., Center St., Frey Dr./Ln., Grand (E&W) St., Humbert Ln., Lafeyette St., Spring St., Tilton Rd., Palatine Bridge, SG100004358

OHIO

Butler County

Champion Coated Paper Company, 601 North B St., Hamilton, SG100004357

Defiance County

Defiance High School, 629 Arabella St., Defiance, SG100004356

Montgomery County

Wright Company Factory, 2701 Home Ave., Dayton Heritage National Historical Park, Dayton, SG100004355.

Summit County

Kenmore Boulevard Historic District, Roughly bounded by 872-1030; 873-1017 Kenmore Blvd.; 2181 14th St. SW; 2200 15th St. SW; 940 Florida Ave., Akron, SG100004354

WASHINGTON

Pierce County

Munson, Herbert and Barbara House, 12711 Gravelly Lake Dr. SW, Lakewood, SG100004345

Walla Walla County

Bachtold Building-Interurban Depot, 330 W Main St., Walla Walla, SG100004346

WISCONSIN

Portage County

New Hope Norwegian Evangelical Lutheran Church and Cemetery, 1410 Cty. Rd. T, New Hope, SG100004342

A request for removal has been made for the following resource:

INDIANA

White County

White County Asylum, 5271 Norway Rd., Monticello vicinity, OT10000857

Nomination submitted by Federal Preservation Officers:

The State Historic Preservation Officer reviewed the following nomination and responded to the Federal Preservation Officer within 45 days of receipt of the nomination and supports listing the property in the National Register of Historic Places.

MAINE

York County

Stage Island Monument, NE of Hills Beach on Stage Island, .6 mi. N of mouth of Biddeford Pool, Biddeford, SG100004341.

Authority: Section 60.13 of 36 CFR part 60.

Dated: July 30, 2019.
Paul Lusignan,
Acting Chief, National Register of Historic Places/National Historic Landmarks Program.

[FR Doc. 2019-17065 Filed 8-8-19; 8:45 am]

BILLING CODE 4312-52-P